DEPARTMENT OF HEALTH AND HUMAN SERVICES

National Institutes of Health

National Institute On Aging; Amended Notice of Meeting

Notice is hereby given of a change in the meeting of the National Institute on Aging Special Emphasis Panel, February 27, 2014, 12:00 p.m. to February 27, 2014, 04:00 p.m., National Institute on Aging, Gateway Building, 7201 Wisconsin Avenue, 2C212, Bethesda, MD 20814, which was published in the Federal Register on January 17, 2014, 79 FR 3212.

The date of the meeting has been changed to February 28, 2014. The time and location remains the same. The title of the meeting has been changed to the National Institute on Aging Special Emphasis Panel; Lung and Aging. The meeting is closed to the public.

Dated: January 28, 2014.
Melanie J. Gray,
Program Analyst, Office of Federal Advisory Committee Policy.

[FR Doc. 2014-02100 Filed 1-31-14; 8:45 am]

BILLING CODE 4140-01-P